DEPARTMENT OF ENERGY

Federal Energy Regulatory Commission

[Docket No. EC01-43-000, et al.]

Enron North America Corp., et al.; Electric Rate and Corporate Regulation Filings

December 13, 2000.

Take notice that the following filings have been made with the Commission:

1. Enron North America Corp., Allegheny Energy Supply Company, LLC, Des Plaines Green Land Development, L.L.C., Gleason Power I, L.L.C. and West Fork Land Development Company, L.L.C.

[Docket No. EC01-43-000]

Take notice that on December 7, 2000, Enron North America Corp. (ENA), Allegheny Energy Supply Company, LLC (AE Supply), Des Plaines Green Land Development, L.L.C. (Des Plaines), Gleason Power I, L.L.C. (Gleason) and West Fork Land Development Company, L.L.C. (West Fork) filed a joint application under Section 203 of the Federal Power Act for the disposition of jurisdictional facilities. Under the proposed transaction, ENA will sell 100 percent of its equity ownership interests in its wholly-owned subsidiaries Des Plaines, Gleason and West Fork to AE Supply. Des Plaines, Gleason and West Fork are generation-owning public utilities with market-based rate schedules on file with the Commission.

Comment date: January 5, 2001, in accordance with Standard Paragraph E at the end of this notice.

2. Cinergy Services, Inc.

[Docket No. ER01-586-000]

Take notice that on December 5, 2000, Cinergy Services, Inc. (Cinergy) and Montaup Electric Company filed a Notice of Cancellation of Service Agreement No. 44, under Cinergy Operating Companies, Cost-Based Power Sales Tariff—CB, FERC Electric Tariff Original Volume No. 6.

Cinergy requests an effective date of October 13, 2000.

Comment date: December 26, 2000, in accordance with Standard Paragraph E at the end of this notice.

3. American Transmission Company LLC

[Docket No. ER01-610-000]

Take notice that on December 7, 2000, American Transmission Company LLC (ATCLLC) tendered for filing a Distribution-Transmission Agreement between ATCLLC and Wisconsin Public Service Corporation.

ATCLLC requests an effective date of January 1, 2001.

Comment date: December 28, 2000, in accordance with Standard Paragraph E at the end of this notice.

4. Entergy Services, Inc.

[Docket No. ER01-611-000]

Take notice that on December 7, 2000, Entergy Services, Inc., on behalf of Entergy Arkansas, Inc., tendered for filing the Seventh Amendment to the Power Coordination, Interchange and Transmission Service Agreement between Entergy Arkansas, Inc. and the City of Conway, dated October 12, 2000. The Seventh Amendment modifies Exhibit A to Appendix A of Rate Schedule No. 98 by establishing a new point of delivery.

Comment date: December 28, 2000, in accordance with Standard Paragraph E at the end of this notice.

5. Allegheny Energy Service Corporation on Behalf of Allegheny Energy Supply Company, LLC

[Docket No. ER01-612-000]

Take notice that on December 7, 2000, Allegheny Energy Service Corporation on behalf of Allegheny Energy Supply Company, LLC (Allegheny Energy Supply) filed Service Agreement No. 103 to add one (1) new Customer to the Market Rate Tariff under which Allegheny Energy Supply offers generation services.

Allegheny Energy Supply proposes to make service available as of November 13, 2000 to Borough of Park Ridge.

Copies of the filing have been provided to the Public Utilities Commission of Ohio, the Pennsylvania Public Utility Commission, the Maryland Public Service Commission, the Virginia State Corporation Commission, the West Virginia Public Service Commission, and all parties of record.

Comment date: December 28, 2000, in accordance with Standard Paragraph E at the end of this notice.

6. Allegheny Energy Service Corporation, on Behalf of Allegheny Energy Supply Company LLC

[Docket No. ER01-613-000]

Take notice that on December 7, 2000, Allegheny Energy Service Corporation on behalf of Allegheny Energy Supply Company, LLC (Allegheny Energy Supply Company) filed First Revised Service Agreement No. 80 to complete the filing requirement for one (1) new Customer of the Market Rate Tariff under which Allegheny Energy Supply offers generation services.

Allegheny Energy Supply maintains the effective date of Service Agreement No. 80 of December 8, 1999 for service to Reliant Energy Services, Inc.

Copies of the filing have been provided to the Public Utilities Commission of Ohio, the Pennsylvania Public Utility Commission, the Maryland Public Service Commission, the Virginia State Corporation Commission, the West Virginia Public Service Commission, and all parties of record.

Comment date: December 28, 2000, in accordance with Standard Paragraph E at the end of this notice.

7. Allegheny Energy Service Corporation, on Behalf of Monongahela Power Company, the Potomac Edison Company and West Penn Power Company (Allegheny Power)

[Docket No. ER01-614-000]

Take notice that on December 7, 2000, Allegheny Energy Service Corporation on behalf of Monongahela Power Company, The Potomac Edison Company and West Penn Power Company (Allegheny Power) filed Service Agreement No. 73 to add one (1) new Customer to the Market Rate Tariff under which Allegheny Power offers generation services.

Allegheny Power requests a waiver of notice requirements to make service available as of December 1, 2000 to PG&E Energy Trading—Power, L.P.

Copies of the filing have been provided to the Public Utilities Commission of Ohio, the Pennsylvania Public Utility Commission, the Maryland Public Service Commission, the Virginia State Corporation Commission, the West Virginia Public Service Commission, and all parties of record.

Comment date: December 28, 2000, in accordance with Standard Paragraph E at the end of this notice.

8. Public Service Company of New Mexico

[Docket No. ER01-615-000]

Take notice that on December 7, 2000, Public Service Company of New Mexico (PNM) tendered for filing, pursuant to section 205 of the Federal Power Act, 16 U.S.C. § 824d (1994), proposed revisions to its FERC Electric Tariff, Original Volume No. 3. PNM also submits a Statement of Policy and Code of Conduct to govern the relationship between PNM and wholesale power marketing affiliates, and notifies the Commission of a change in status relating to PNM's authorization to sell power at market-based rates.

Comment date: December 28, 2000, in accordance with Standard Paragraph E at the end of this notice.

9. Arizona Public Service Company

[Docket No. ER01-616-000]

Take notice that on December 7, 2000, Arizona Public Service Company (APS) tendered for filing Service Agreements to provide Long-Term Firm Point-to-Point Transmission Service to Idaho Power Company dba IDACORP Energy under APS' Open Access Transmission Tariff.

A copy of this filing has been served on Idaho Power Company dba IDACORP Energy, and the Arizona Corporation Commission.

Comment date: December 28, 2000, in accordance with Standard Paragraph E at the end of this notice.

10. UGI Utilities, Inc.

[Docket No. ER01-617-000]

Take notice that on December 7, 2000, UGI Utilities, Inc. tendered for filing an Interconnection Agreement with Allegheny Energy Supply Company, L.L.C, designated as Service Agreement No. 535 under PJM Interconnection L.L.C.”s FERC Electric Tariff Third Revised Volume No. 1.

UGI Utilities, Inc. requests an effective date of November 10, 2000.

Comment date: December 28, 2000, in accordance with Standard Paragraph E at the end of this notice.

11. Cinergy Services, Inc.

[Docket No. ER01-618-000]

Take notice that on December 7, 2000, Cinergy Services, Inc. (Cinergy) tendered for filing a Market-Based Service Agreement under Cinergy's Market-Based Power Sales Standard Tariff-MB (the Tariff) entered into between Cinergy and Wisconsin Public Service Corporation (WPSC).

Cinergy and WPSC are requesting an effective date of November 13, 2000.

Comment date: December 28, 2000, in accordance with Standard Paragraph E at the end of this notice.

12. California Independent System Operator Corporation

[Docket No. ER01-619-000]

Take notice that on December 7, 2000, the California Independent System Operator Corporation tendered for filing an Amendment to Schedule 1 of the Participating Generator Agreement between the ISO and Sierra Pacific Industries (Sierra Pacific) for acceptance by the Commission.

The ISO states that this filing has been served on Sierra Pacific and the California Public Utilities Commission.

The ISO is requesting waiver of the 60-day notice requirement to allow the Participating Generator Agreement to be made effective October 9, 2000.

Comment date: December 28, 2000, in accordance with Standard Paragraph E at the end of this notice.

13. Wisconsin Public Service Corporation

[Docket No. ER01-620-000]

Take notice that on December 7, 2000, Wisconsin Public Service Corporation tendered for filing an executed service agreement with Split Rock Energy LLC under its Market-Based Rate Tariff, FERC Electric Tariff Volume No. 10.

Comment date: December 28, 2000, in accordance with Standard Paragraph E at the end of this notice.

14. The Detroit Edison Company

[Docket No. ER01-621-000]

Take notice that on December 7, 2000, The Detroit Edison Company (Detroit Edison) tendered for filing Service Agreements (Service Agreements) for Short-term Firm and Non-Firm Point-to-Point Transmission Service under the Joint Open Access Transmission Tariff of Consumers Energy Company and Detroit Edison, FERC Electric Tariff No. 1. These Service Agreements are between Detroit Edison and H. Q. Energy Services (US), Inc., dated as of November 20, 2000. The parties have not engaged in any transactions under the Service Agreements prior to thirty days to this filing.

Detroit Edison requests that the Service Agreements be made effective as rate schedules as of December 20, 2000.

Comment date: December 28, 2000, in accordance with Standard Paragraph E at the end of this notice.

15. The Detroit Edison Company

[Docket No. ER01-622-000]

Take notice that on December 7, 2000, The Detroit Edison Company (Detroit Edison) tendered for filing a Service Agreement (Service Agreement) for Network Integration Transmission Service under the Joint Open Access Transmission Tariff of Consumers Energy Company and Detroit Edison, FERC Electric Tariff No. 1. The Service Agreement is between Detroit Edison and Nordic Marketing, L.L.C., dated as of November 7, 2000. The parties have not engaged in any transactions under the Service Agreement prior to thirty days to this filing.

Detroit Edison requests that the Service Agreement be made effective as rate schedules as of December 8, 2000.

Comment date: December 28, 2000, in accordance with Standard Paragraph E at the end of this notice.

16. Des Plaines Green Land Development, L.L.C., Gleason Power I, L.L.C., and West Fork Land Development Company, L.L.C.

[Docket No. ER01-623-000, ER01-624-000, and ER01-625-000]

Take notice that on December 7, 2000, Des Plaines Green Land Development, L.L.C. (Des Plaines), Gleason Power I, L.L.C. (Gleason), and West Fork Land Development Company, L.L.C. (West Fork) filed a Notification of Change in Status and Petition for Acceptance of Pro Forma Revised Rate Schedules in anticipation of Enron North America Corp.'s sale of its equity ownership interests in Des Plaines, Gleason and West Fork to Allegheny Energy Supply Company, LLC, all as more fully described in the Application.

Comment date: December 28, 2000, in accordance with Standard Paragraph E at the end of this notice.

17. American Electric Power Service Corporation

[Docket No. ER01-626-000]

Take notice that on December 8, 2000, the American Electric Power Service Corporation (AEPSC) tendered for filing executed Interconnection and Operation Agreement between Indiana Michigan Power Company and Duke Energy Berrien, LLC. The agreement is pursuant to the AEP Companies' Open Access Transmission Service Tariff (OATT) that has been designated as the Operating Companies of the American Electric Power System FERC Electric Tariff Revised Volume No. 6, effective June 15, 2000.

AEP requests an effective date of February 1, 2001.

A copy of the filing was served upon the Indiana Utility Regulatory Commission and the Michigan Public Service Commission.

Comment date: December 29, 2000, in accordance with Standard Paragraph E at the end of this notice.

18. Commonwealth Edison Company

[Docket No. ER01-627-000]

Take notice that on December 8, 2000, Commonwealth Edison Company (ComEd) submitted for filing a “form of” agreement entitled Ancillary and Other Control Area Services Resources Purchase Agreement (hereafter Agreement) between ComEd and to be named company, described in the Agreement as “Genco, Inc.”. Exelon Corporation, the recently formed holding company which owns the ComEd system, intends to establish Genco, Inc., as a subsidiary which will own all of the generating assets of the Exelon system. This will include the assets which ComEd currently holds in Northern Illinois and from which ComEd currently obtains the generation related support necessary to provide ancillary services under its Open Access Transmission Tariff (OATT). The Agreement specifies the terms on which ComEd will receive and purchase, and Genco, Inc. will deliver and sell, the generating resources necessary to meet ComEd's obligation to supply energy imbalance and other ancillary service under its OATT, and other control area services and imbalance service to generators under specific interconnection agreements with various generators.

ComEd requests an effective date as of the actual date that its generating assets are transferred to Genco, Inc., currently anticipated to be on or about January 1, 2001. Accordingly, ComEd seeks waiver of the Commission's notice requirements.

Copies of the filing were served upon ComEd's jurisdictional customers and interested state commissions.

Comment date: December 29, 2000, in accordance with Standard Paragraph E at the end of this notice.

19. American Transmission Systems, Inc. and Ohio Edison Company, and the Cleveland Electric Illuminating Company, and the Toledo Edison Company

[Docket No. ER01-629-000]

Take notice that on December 8, 2000, American Transmission Systems, Inc.. tendered for filing on behalf of itself and Ohio Edison Company, The Cleveland Electric Illuminating Company, and The Toledo Edison Company, Service Agreements for Network Integration Service and Operating Agreements for the Network Integration Transmission Service under the Ohio Retail Electric Program with Strategic Energy, L.L.C. and Allegheny Energy Supply, LLC pursuant to the American Transmission Systems, Inc. Open Access Tariff. These agreements will enable the parties to obtain Network Integration Service under the Ohio Retail Electric Program in accordance with the terms of the Tariff.

The proposed effective date under these agreements is January 1, 2001.

Comment date: December 29, 2000, in accordance with Standard Paragraph E at the end of this notice.

20. Arizona Public Service Company

[Docket No. ER01-630-000]

Take notice that on December 8, 2000, Arizona Public Service Company (APS) tendered for filing Service Agreement to provide Long-Term Firm Point-to-Point Transmission Service to Public Service Company of New Mexico, Wholesale Power Marketing under APS' Open Access transmission Tariff.

A copy of this filing has been served on the Public Service Company of New Mexico, Wholesale Power Marketing and the Arizona Corporation Commission.

Comment date: December 29, 2000, in accordance with Standard Paragraph E at the end of this notice.

21. Arizona Public Service Company

[Docket No. ER01-631-000]

Take notice that on December 8, 2000, Arizona Public Service Company (APS) tendered for filing umbrella Service Agreements to provide Short-term Firm and Non-Firm Point-to-Point Transmission Service to Legacy Energy Group, LLC under APS' Open Access Transmission Tariff.

A copy of this filing has been served on Legacy Energy Group, LLC and the Arizona Corporation Commission.

Comment date: December 29, 2000, in accordance with Standard Paragraph E at the end of this notice.

22. Commonwealth Edison Company

[Docket No. ER01-628-000]

Take notice that on December 8, 2000, Commonwealth Edison Company and Commonwealth Edison Company of Indiana, Inc. (collectively ComEd) filed to amend Schedules 4, 4A and 4G to ComEd's Open Access Transmission Tariff (OATT).

ComEd requests an effective date of January 1, 2001.

Copies of the filing were served upon ComEd's jurisdictional customers and interested state commissions.

Comment date: December 29, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-32384 Filed 12-19-00; 8:45 am]

BILLING CODE 6717-01-P